Title 3—

The President

Proclamation 7447 of June 6, 2001

Flag Day and National Flag Week, 2001

By the President of the United States of America

A Proclamation

On June 14, 2001, Americans will observe the 224th birthday of the flag of the United States of America. This special day provides a time for our Nation to reflect on our flag's rich history and its meaning to Americans and people around the world.

The Continental Congress adopted the Stars and Stripes as the official flag of our young republic on June 14, 1777. Describing the new flag, the Congress wrote, “White signifies Purity and Innocence; Red, Hardiness and Valor; Blue signifies Vigilance, Perseverance and Justice.” Over time, the flag's design evolved to keep pace with our Nation's development and growth, but its meaning as a symbol of democracy and freedom has remained constant.

Flag Day was first celebrated throughout the country in 1877 to mark the centennial of the birth of our national symbol. As so often happens in our communities, a caring teacher encouraging students to develop a love for learning sparked renewed interest in the flag. Wisconsin schoolteacher B.J. Cigrand arranged for his pupils in 1885 to observe the 108th anniversary of the flag's official adoption.

In magazine and newspaper articles and public addresses in the following years, Cigrand promoted an official national celebration of June 14 as “Flag Birthday” or “Flag Day.” Groups in Pennsylvania, New York, and Illinois took up the cause. After three decades of State and local celebrations, President Woodrow Wilson officially established Flag Day by proclamation in 1916.

During the darkest hours of World War II, Americans looked to the purity, hardiness, valor, vigilance, perseverance, and justice represented by the flag as ideals worthy of the ultimate sacrifice in order to defeat tyranny. In celebration of the flag's powerful meaning to Americans and its place in our culture and history, Flag Day became a national observance by Act of Congress in 1949 and was signed into law by President Harry Truman.

To commemorate the adoption of our flag, the Congress, by joint resolution approved August 3, 1949 (63 Stat. 492), designated June 14 of each year as “Flag Day” and requested the President to issue an annual proclamation calling for a national observance and for the display of the flag of the United States on all Federal Government buildings. In a second joint resolution approved June 9, 1966 (80 Stat. 194), the Congress requested the President to also issue annually a proclamation designating the week during which June 14 falls as “National Flag Week” and called upon all citizens of the United States to display the flag during that week.

NOW, THEREFORE, I, GEORGE W. BUSH, President of the United States of America, by virtue of the authority vested in me by the Constitution and laws of the United States, do hereby proclaim June 14, 2001, as Flag Day and the week beginning June 10, 2001, as National Flag Week. I direct the appropriate officials to display the flag of the United States on all Federal Government buildings during the week. I also call upon the people of the United States to observe with pride and all due ceremony those days from Flag Day through Independence Day, also set aside by the Congress (89 Stat. 211), as a time to honor America, to celebrate our heritage in public gatherings and activities, and to recite publicly the Pledge of Allegiance to the Flag of the United States of America.

IN WITNESS WHEREOF, I have hereunto set my hand this sixth day of June, in the year of our Lord two thousand one, and of the Independence of the United States of America the two hundred and twenty-fifth.

B

[FR Doc. 01-14854

Filed 6-8-01; 8:45 am]

Billing code 3195-01-P